DEPARTMENT OF COMMERCE

National Oceanic and Atmospheric Administration

RIN 0648-XF99

Fisheries of the Exclusive Economic Zone off Alaska; Application for an Exempted Fishing Permit

AGENCY: National Marine Fisheries Service (NMFS), National Oceanic and Atmospheric Administration (NOAA), Commerce.

ACTION: Notice; receipt of an application for an exempted fishing permit.

SUMMARY: This notice announces receipt of an application for an exempted fishing permit (EFP) from Mr. John Gauvin of Gauvin and Associates, LLC. If granted, this permit would allow the applicant to continue the development and testing of a salmon excluder device for the Bering Sea pollock trawl fishery. This activity is intended to promote the objectives of the Fishery Management Plan for Groundfish of the Bering Sea and Aleutian Islands Management Area (FMP) by reducing salmon bycatch in the Bering Sea pollock trawl fishery. Comments will be accepted at the April 1-7, 2008, North Pacific Fishery Management Council (Council) meeting in Anchorage, AK.

DATES: Interested persons may comment on the EFP application and on the environmental assessment during the Council's April 1-7, 2008, meeting in Anchorage, AK.

ADDRESSES: The Council meeting will be held at the Hilton Hotel, 500 West Third Ave., Anchorage, AK.

Copies of the EFP application and the environmental assessment (EA) are available by writing to the Alaska Region, NMFS, P. O. Box 21668, Juneau, AK 99802, Attn: Ellen Sebastian. The EA and application also are available from the Alaska Region, NMFS website at http://www.fakr.noaa.gov.

FOR FURTHER INFORMATION CONTACT: Melanie Brown, 907-586-7228 or melanie.brown@noaa.gov.

SUPPLEMENTARY INFORMATION: NMFS manages the domestic groundfish fisheries in the Bering Sea and Aleutian Islands Management Area (BSAI) under the FMP. The Council prepared the FMP under the Magnuson-Stevens Fishery Conservation and Management Act. Regulations governing the groundfish fisheries of the BSAI appear at 50 CFR parts 600 and 679. The FMP and the implementing regulations at §§ 600.745(b) and 679.6 authorize issuance of EFPs to allow fishing that would otherwise be prohibited. Procedures for issuing EFPs are contained in the implementing regulations.

NMFS received an application for an EFP from Mr. Gauvin on January 29, 2008. The purposes of the EFP project are to improve the performance of the salmon excluder device developed under EFPs in 2004 through 2007 and to validate the performance of this device for pollock trawl gear used in the BSAI. The goal is to develop a device for pollock trawl gear that reduces salmon bycatch without significantly lowering catch rates of pollock.

The EFP would allow for development and testing of the salmon excluder device from September 2008 through March 2010, for several weeks in each pollock A and B season. Testing in each season would allow the device to be used under salmon occurrence and pollock fishing practices specific to each season. Testing in the A season would catch primarily Chinook salmon and roe-bearing pollock, while testing in the B season would catch Chinook and chum salmon and pollock that are not likely to be roe-bearing. EFP fishing would be conducted by one vessel in each season.

To test the salmon excluder device, exemptions would be necessary from regulations for salmon bycatch limits, observer requirements, several closures areas, and total allowable catch amounts (TACs) for groundfish. The taking of salmon during the experiment is crucial for determining the effectiveness of the device. Salmon taken during the experiment would not be counted toward the Chinook and chum salmon bycatch limits under § 679.21(e)(1)(vi) and (vii). The amount of salmon bycatch by the pollock trawl industry during the EFP period could potentially approach or exceed the salmon bycatch limits. If the EFP salmon were counted toward the salmon bycatch limits, the EFP salmon may create an additional burden on the pollock trawl fishermen not participating in the intercooperative agreement for salmon bycatch reduction by causing earlier closures of the salmon savings areas. More information regarding the intercooperative agreement for salmon bycatch reduction is at 72 FR 61070 (October 29, 2007).

Approximately 2,500 chum salmon for each B season and 2,500 Chinook salmon for each A and B season would be required to support the project. In total, the applicant would be limited to harvesting 10,000 Chinook salmon and 5,000 chum salmon for the time period of the EFP. The experimental design requires this quantity of salmon to ensure statistically valid results.

The applicant also has requested an exemption from the Chinook Salmon Savings Areas (§ 679.21(e)(7)(viii)), the Chum Salmon Savings Area (§§ 679.21(e)(7)(vii) and 679.22(a)(10)), the Bering Sea Pollock Restriction Area (§ 679.22(a)(7)(ii)), and the Steller Sea Lion Conservation Area (§ 679.22(a)(7)(vii)). These overlapping areas occur in locations of salmon concentration. The experiment must be conducted in areas of salmon concentration sufficient to ensure a statistically adequate sample size. These locations are ideal for conducting the experiment and ensuring that the vessel encounters sufficient concentrations of salmon and pollock for meeting the experimental design.

Groundfish taken under the EFP would be exempt from the TACs specified in the annual harvest specifications (§ 679.20). A total of 2,500 metric tons (mt) of groundfish (primarily pollock) would be taken during each season of the EFP for a total of 10,000 mt over the duration of the EFP. The experimental design requires this quantity of pollock to ensure a statistically adequate sample size for measuring pollock escapement through the salmon excluder device. The EFP groundfish harvest would not be included in the harvest applied against the Bering Sea groundfish TACs, including the 2008 and 2009 pollock TAC of 1.0 million mt. The 2008 and 2009 Bering Sea pollock acceptable biological catch (ABC) also is 1.0 million mt. For each year of the EFP, the amount of pollock harvest under the EFP would be approximately 0.25 to 0.5 percent of the annual harvest of pollock in the Bering Sea pollock fishery. Even though the EFP would allow for harvest over the ABC, the amount is so small that no discernable effect is expected. Because of very little groundfish incidental catch in the pollock fishery, the harvest of other groundfish species during the EFP fishing is expected to be a negligible amount, less than 25 mt.

Using a catcher/processor for the EFP study would require exemption from the Catcher Vessel Operating Area (CVOA) restriction (§ 679.22(a)(5)) because of the location of the Chinook Salmon Savings Area in the CVOA. Catcher/processors are prohibited from operating in the CVOA during the B season. The EFP fishing may be done by either a catcher vessel or a catcher/processor. It may be necessary for the EFP applicant to use a catcher/processor to conduct tows in this area to ensure encountering sufficient pollock and salmon concentrations to meet the experimental design.

The EFP would include an exemption from the observer requirements at § 679.50. The applicants would use “sea samplers” who are NMFS-trained observers. They would not be deployed as NMFS observers, however, at the time of the EFP fishing. The “sea samplers” would conduct the EFP data collection and perform other observer duties that would normally be required for vessels directed fishing for pollock.

The activities under the EFP are not expected to have a significant impact on the human environment as analyzed in the EA for this action (see ADDRESSES). The EFP would be subject to modifications pending any new relevant information regarding the 2010 fishery, including pollock harvest specifications or restructuring of the salmon bycatch management program.

In accordance with § 679.6, NMFS has determined that the proposal warrants further consideration and has forwarded the application to the Council to initiate consultation. The Council will consider the EFP application during its April 1-7, 2008, meeting, which will be held at the Hilton Hotel in Anchorage, Alaska. The applicant has been invited to appear in support of the application.

Public Comments

Interested persons may comment on the application and on the EA at the April 2008 Council meeting during public testimony. Information regarding the meeting is available at the Council's website at http://www.fakr.noaa.gov/npfmc/council.htm. Copies of the application and EA are available for review from NMFS (see ADDRESSES).

Authority: 16 U.S.C. 1801 et seq.

Dated: March 7, 2008.
Emily H. Menashes
Acting Director, Office of Sustainable Fisheries, National Marine Fisheries Service.

[FR Doc. E8-4904 Filed 3-11-08; 8:45 am]

BILLING CODE 3510-22-S